DEPARTMENT OF HOMELAND SECURITY

Coast Guard

[Docket No. USCG—2012—0763]

Merchant Marine Personnel Advisory Committee

AGENCY: Coast Guard, DHS.

ACTION: Notice of Federal Advisory Committee Meeting.

SUMMARY: The Merchant Marine Personnel Advisory Committee (MERPAC) will meet in Washington, DC, to discuss various issues related to the training and fitness of merchant marine personnel. This meeting will be open to the public.

DATES: MERPAC working groups will meet on September 11, 2012, from 8 a.m. until 4 p.m., and the full committee will meet briefly on the morning of September 11 and on September 12, 2012, from 8 a.m. until 4 p.m. This meeting may adjourn early if all business is finished. Written comments to be distributed to committee members and placed on MERPAC's Web site are due August 31, 2012.

ADDRESSES: The Committee will meet in Room 2501 of the U.S. Coast Guard Headquarters Building, 2100 Second Street SW., Washington, DC 20593. Attendees will be required to provide a picture identification card and pass through a magnetometer in order to gain admittance to the U.S. Coast Guard Headquarters Building. Visitors should also arrive at least 30 minutes in advance of the meeting in case of long lines at the entrance.

For information on facilities or services for individuals with disabilities or to request special assistance, contact Mr. Rogers Henderson at 202-372-1408 as soon as possible.

To facilitate public participation, we are inviting public comment on the issues to be considered by the Committee and working groups as listed in the “Agenda” section below. Written comments must be identified by Docket No. USCG-2012-0763 and submitted by one of the following methods:

• Federal eRulemaking Portal: http://www.regulations.gov. Follow the instructions for submitting comments (preferred method to avoid delays in processing).

• Fax: 202-372-1918.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov.

Any requests to make oral presentations should be made in advance using one of the methods highlighted above. This notice may be viewed in our online docket, USCG-2012-0763, at http://www.regulations.gov.

FOR FURTHER INFORMATION CONTACT: Mr. Rogers Henderson, Alternate Designated Federal Officer (ADFO), telephone 202-372-1408. If you have any questions on viewing or submitting material to the docket, call Renee V. Wright, Program Manager, Docket Operations, telephone 202-366-9826.

SUPPLEMENTARY INFORMATION: Notice of this meeting is given under the Federal Advisory Committee Act, 5 U.S.C. App. (Pub. L. 92-463).

MERPAC is an advisory committee established under the Secretary's authority in section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

Agenda of Meeting

Day 1

The agenda for the September 11, 2012, work group meeting is as follows:

(1) The full committee will meet briefly to discuss the working groups' business/task statements, which are listed under paragraph 2 below.

(2) Working groups addressing the following task statements, available for viewing at http://homeport.uscg.mil/merpac will meet to deliberate:

(a) Task Statement 58, concerning Stakeholder Communications during Merchant Mariner Licensing and Documentation Program (MLD) Restructuring and Centralization;

(b) Task Statement 71 (amended), concerning Review of Examination Infrastructure—process, exam topics and questions in support of national endorsements and Standards of Training, Certification and Watchkeeping for Seafarers (STCW) endorsements;

(c) Task Statement 76, concerning Review of Performance Measures (Assessment Criteria) which can be used to assess mariner competencies listed in the International Convention on Standards of Training, Certification and Watchkeeping for Seafarers (STCW), 1978 as amended;

(d) Task Statement 77, concerning Development of Performance Measures (Assessment Criteria) which can be used to assess mariner competencies listed in the International Convention on Standards of Training, Certification and Watchkeeping for Seafarers (STCW), 1978 as amended; and

(e) Task Statement 79, concerning Recommended Practices for the Safe Operation of Dynamically Positioned Vessels in the Outer Continental Shelf.

(3) Working groups will report the status and address any immediate issues arising from the following task statements, which are available for viewing at http://homeport.uscg.mil/merpac, may meet to deliberate:

(a) Task Statement 30, concerning Utilizing Military Education, Training and Assessment for STCW (the International Convention on Standards of Training, Certification and Watchkeeping for Seafarers (1978), as amended) and U.S. Coast Guard Certifications;

(b) Task Statement 73, concerning Development of Training Guidance for Engineers Serving on Near-Coastal Vessels; and

(c) Task Statement 74, concerning Merchant Mariner Credential (MMC) Components: List all possible officer and rating endorsements, domestic and international, which should be included in the endorsement section of the MMC; and, list all possible limitations which might be included in the MMC endorsement section.

(4) Public comment period.

(5) Reports of working groups. At the end of the day, the working groups will make a report to the full committee on what was accomplished in their meetings. The full committee will not take action on these reports on this date. Any official action taken as a result of this working group meeting will be taken on day 2 of the meeting.

(6) Adjournment of meeting.

Day 2

The agenda for the September 12, 2012, Committee meeting is as follows:

(1) Introduction;

(2) Remarks from Coast Guard Leadership, Mr. Jeffrey Lantz, Director of Commercial Regulations and Standards;

(3) Introduction of the members;

(4) Roll call of committee members and determination of a quorum;

(5) Designated Federal Officer (DFO) announcements;

(6) Reports from the following working groups;

(a) Task Statement 58;

(b) Task Statement 71 (amended);

(c) Task Statement 76;

(d) Task Statement 77; and,

(e) Task Statement 79.

(7) Reports from the following working groups if they have anything new to report:

(a) Task Statement 30, concerning Utilizing Military Education, Training and Assessment for STCW and U.S. Coast Guard Certifications;

(b) Task Statement 73, concerning Development of Training Guidance for Engineers Serving on Near-Coastal Vessels; and

(c) Task Statement 74, concerning Merchant Mariner Credential (MMC) Components.

(8) Other items that will be discussed:

(a) Implementation of the 2010 amendments to the STCW Convention—questions and challenges;

(b) Report on National Maritime Center (NMC) activities;

(c) Report on Mariner Credentialing Program Policy Division activities;

(d) Report on International Maritime Organization (IMO)/International Labor Organization (ILO) related activities; and

(e) Briefings concerning on-going Coast Guard projects related to personnel in the U.S. Merchant Marine.

(f) New task statement—Competency requirements for personnel working on Liquefied Natural Gas (LNG)-fueled vessels.

(9) Public comment period/presentations.

(10) Discussion of working group recommendations. The committee will review the information presented on each issue, deliberate on any recommendations presented by the working groups and approve/formulate recommendations for the Department's consideration. Official action on these recommendations may be taken on this date.

(11) Closing remarks/plans for next meeting.

(12) Adjournment of meeting.

Procedural

A copy of all meeting documentation is available at the FACA database Web site, http://www.fido.gov/facadatabase, or by contacting Rogers Henderson. Once you have accessed the FACA site's main page, click on “Public Access;” at the next page highlight “2012” then click “Explore Data.” At the next page, click on “Department of Homeland Security.” Click on the MERPAC Committee page, click on the “meetings” tab and then the “View” button for the meeting dated September 11, 2012 to access the information for this meeting. Minutes will be available 90 days after this meeting. Both minutes and documents applicable for this meeting can also be found at an alternative site using the following Web address: https://homeport.uscg.mil and use these key strokes: Missions; Port and Waterways Safety; Advisory Committees; MERPAC; and then use the event key.

A public oral comment period will be held each day. Speakers are requested to limit their comments to 3 minutes. Please note that the public oral comment period may end before the prescribed ending time indicated following the last call for comments. Contact Rogers Henderson at rogers.w.henderson@uscg.mil to register as a speaker.

Dated: August 2, 2012.
J.G. Lantz,
Director of Commercial Regulations and Standards.

[FR Doc. 2012-19342 Filed 8-7-12; 8:45 am]

BILLING CODE 9110-04-P